DEPARTMENT OF DEFENSE

Department of the Navy

Notice of Intent To Grant Partially Co-Exclusive Patent Licenses; Southeastern Resources Management LLC, GCS Research LLC, and Sabeus Inc.

AGENCY: Department of the Navy, DOD.

ACTION: Notice.

SUMMARY: The Department of the Navy hereby gives notice of its intent to grant to Southeastern Resources Management LLC, GCS Research LLC, and Sabeus, Inc. revocable, nonassignable, partially co-exclusive licenses in the Government-owned inventions described in Navy Case Number 96517: U.S. Patent App. Ser. No. 11/056,630, entitled Natural Fiber Span Reflectometer Providing A Virtual Signal Sensing Array Capability, filed on February 7, 2005; Navy Case Number 96518: U.S. Patent App. Ser. No. 11/056,629, entitled Natural Fiber Span Reflectometer Providing A Virtual Phase Signal Sensing Array Capability, filed on February 7, 2005; Navy Case Number 96519: U.S. Patent App. Ser. No. 11/056,631, entitled Natural Fiber Span Reflectometer Providing A Virtual Differential Signal Sensing Array Capability, filed on February 7, 2005; and Navy Case Number 96650: U.S. Patent App. Ser. No. 11/056,632, entitled Natural Fiber Span Reflectometer Providing A Spread Spectrum Virtual Sensing Array Capability, filed on February 7, 2005.

DATES: Anyone wishing to object to the grant of these licenses has fifteen (15) days from the date of this notice to file written objections along with supporting evidence, if any.

ADDRESSES: Written objections are to be filed with the Naval Undersea Warfare Center Division, Newport, 1176 Howell St, Bldg 990, Code 105, Newport, RI 02841.

FOR FURTHER INFORMATION CONTACT: Dr. Theresa A. Baus, Technology Transfer Manager, Naval Undersea Warfare Center Division, Newport, 1176 Howell St, Bldg 990, Code 105, Newport, RI 02841, telephone 401-832-8728, E-Mail: bausta@npt.nuwc.navy.mil.

(Authority: 35 U.S.C. 207, 37 CFR part 404.)

Dated: September 15, 2005.
I.C. Le Moyne, Jr.,
Lieutenant, Judge Advocate General's Corps, U.S. Navy, Alternate Federal Register Liaison Officer.

[FR Doc. 05-18904 Filed 9-21-05; 8:45 am]

BILLING CODE 3810-FF-P